DEPARTMENT OF THE INTERIOR

Bureau of Land Management

[A2407-014-004-065516; #O2412-014-004-047181.1]

Proposed Reinstatement of BLM New Mexico Terminated Oil and Gas Leases: NMNM 134884; NMNM 134885; NMNM 141886

AGENCY: Bureau of Land Management, Interior

ACTION: Notice of lease reinstatement.

SUMMARY: In accordance with the Mineral Leasing Act of 1920, as amended, the Bureau of Land Management (BLM) received a petition for reinstatement of terminated competitive oil and gas leases from Blackbeard Operating, LLC (NMNM 134884, NMNM 134885; serial numbers NMNM105373864 and NMNM105373865, respectively) and EOG Resources (NMNM 141886; serial number NMNM105517491). The lessee timely filed petitions for reinstatement of competitive oil and gas leases located in Eddy and Lea counties, New Mexico. The lessees paid the required rentals accruing from the date of termination. No leases have been issued that affect these lands. The BLM proposes to reinstate the leases.

FOR FURTHER INFORMATION CONTACT: Julieann Serrano, Supervisory Land Law Examiner, Branch of Adjudication, Bureau of Land Management New Mexico State Office, 301 Dinosaur Trail, Santa Fe, New Mexico 87508, (505) 954-2149, jserrano@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The lessees agree to new lease terms for rentals of $20 per acre, or fraction thereof, per year, and a royalty rate of 20 percent. The lessees agreed to additional or amended stipulations. The lessees paid the required administration fee and has reimbursed the BLM for the cost of publishing this Notice. The lessees met the requirements for reinstatement of the lease per sec. 31 (d) and (e) of the Mineral Leasing Act of 1920 (30 U.S.C. 188). The BLM is proposing to reinstate the leases effective November 1, 2020 (NMNM 141886), and October 1, 2020 (NMNM 134884; NMNM 134885), and an extension for 2 years from the date the lease is reinstated in accordance with 43 CFR 3108.23(d)(2) subject to: the original terms and conditions of the lease; additional and amended stipulations; increased rental of $20 per acre; increased royalty of 20 percent and a one- or 2-year lease extension.

Authority: 30 U.S.C. 188 (e)(4) and 43 CFR 3108.23(d)(2).

Michael J. Gibson,
Deputy State Director, Minerals.

[FR Doc. 2025-14771 Filed 8-4-25; 8:45 am]

BILLING CODE 4331-23-P